DEPARTMENT OF TRANSPORTATION

Federal Aviation Administration

14 CFR Part 39

[Docket No. FAA-2012-1135; Directorate Identifier 2012-SW-097-AD; Amendment 39-17281; AD 2012-21-52]

RIN 2120-AA64

Airworthiness Directives; Agusta S.p.A. (Type Certificate Currently Held by AgustaWestland S.p.A.) (Agusta) Helicopters

AGENCY: Federal Aviation Administration (FAA), Department of Transportation (DOT).

ACTION: Final rule; request for comments.

SUMMARY: We are publishing a new airworthiness directive (AD) for Agusta Model AW139 helicopters, which was sent previously to all known U.S. owners and operators of these helicopters. This AD requires inspecting the pilot's and co-pilot's collective and cyclic control sticks for correctly installed attaching hardware. This AD is prompted by a report of an incorrectly installed pilot's collective stick, pilot's cyclic stick, and co-pilot's cyclic stick. These actions are intended to prevent detachment of the cyclic or collective control stick, and subsequent loss of control of the helicopter.

DATES: This AD becomes effective December 26, 2012 to all persons except those persons to whom it was made immediately effective by Emergency AD 2012-21-52, issued on October 23, 2012, which contained the requirements of this AD.

We must receive comments on this AD by February 8, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the economic evaluation, any comments received, and other information. The street address for the Docket Operations Office (telephone 800-647-5527) is in the ADDRESSES section. Comments will be available in the AD docket shortly after receipt.

For service information identified in this AD, contact AgustaWestland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5328; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On October 23, 2012, we issued Emergency AD 2012-21-52, which requires inspecting the pilot's and co-pilot's collective and cyclic control sticks for correctly installed attaching hardware, and reinstalling the affected stick before further flight if the hardware is not correct. The European Aviation Safety Agency (EASA), which is the Technical Agent for the Member States of the European Union, issued EASA AD No. 2012-0213-E, dated October 16, 2012, to correct an unsafe condition for certain Agusta Model AW139 helicopters. EASA advises that an incident of an incorrectly installed pilot's collective stick, pilot's cyclic stick, and co-pilot's cyclic stick was reported. This condition, if not detected and corrected, could lead to in-flight detachment of the cyclic or collective sticks and subsequent loss of control of the helicopter.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of the same type design.

Related Service Information

Agusta has issued Bollettino Tecnico (BT) No. 139-308, dated October 16, 2012. The BT describes procedures to inspect the pilot's and co-pilot's collective and cyclic sticks for the correct installation of bolts, washers, self-locking nuts, cotter pins, ring nuts, and quick-release pins. If any collective or cyclic stick is incorrectly installed, the BT requires reinstalling the affected control stick.

AD Requirements

This AD requires, within 5 hours time-in-service (TIS):

• Inspecting the pilot collective and cyclic control sticks for the correct installation of the attachment bolts, washers, self-locking nuts, and cotter pins. If the installed hardware is not as prescribed in this AD, before further flight, reinstalling the pilot collective or cyclic control stick.

• Inspecting the co-pilot collective and cyclic control sticks for the correct installation of the ring nuts and quick-release pins. If the installed hardware is not as prescribed in this AD, before further flight, reinstalling the co-pilot collective or cyclic control stick.

Differences Between This AD and the EASA AD

The EASA AD allows compliance within 1 week or 5 flight-hours; this AD requires compliance within 5 hours TIS.

Costs of Compliance

We estimate that this AD will affect 45 helicopters of U.S. Registry. We estimate that operators may incur the following costs in order to comply with this AD. Inspecting the pilot's and co-pilot's collective and cyclic stick installation will require about 1 work-hour at an average labor rate of $85 per hour, for a cost per helicopter of $85 and a cost to U.S. operators of $3,825.

Reinstalling a cyclic or collective stick will require about 1 work-hour, at an average labor rate of $85 per hour, for a cost per helicopter of $85.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the required corrective actions must be accomplished within 5 hours TIS.

Since it was found that immediate corrective action was required, notice and opportunity for prior public comment before issuing this AD were impracticable and contrary to the public interest and good cause existed to make the AD effective immediately by Emergency AD 2012-21-52, issued on October 23, 2012 to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-21-52 Agusta S.P.A. Helicopters (Type Certificate Currently Held By AgustaWestland S.P.A.) (Agusta): Amendment 39-17281; Docket No. FAA-2012-1135; Directorate Identifier 2012-SW-097-AD.

(a) Applicability

This AD applies to Agusta Model AW139 helicopters, serial numbers (S/N) 41201 through 41310, except S/N 41290, 41291, 41292, 41302, 41304, 41305, 41306, and 41309, certificated in any category.

(b) Unsafe Condition

This AD defines the unsafe condition as an incorrectly installed cyclic and collective control stick, detachment of the cyclic or collective control stick, and subsequent loss of control of the helicopter.

(c) Effective Date

This AD becomes effective December 26, 2012 to all persons except those persons to whom it was made immediately effective by Emergency AD 2012-21-52, issued on October 23, 2012, which contained the requirements of this AD.

(d) Compliance

You are responsible for performing each action required by this AD within the specified compliance time unless it has already been accomplished prior to that time.

(e) Required Actions

Within 5 hours time-in-service (TIS):

(1) Inspect the pilot collective stick installation to determine whether the self-locking nuts, part-number (P/N) MS17825-4, are secured with cotter pins, P/N MS24665-136, as depicted in Figure 1 to paragraph (e) of this AD. If the self-locking nuts are not secured with cotter pins, before further flight, reinstall the pilot collective stick.

BILLING CODE 4910-13-P

(2) Inspect the co-pilot collective stick installation to determine whether the ring nut (item 2) is loose and the quick-release pin (item 3) is installed as depicted in Figure 2 to paragraph (e) of this AD. If the ring nut is loose or the quick-release pin is not installed, before further flight, reinstall the co-pilot collective stick.

(3) Inspect the pilot cyclic stick installation for proper installation of the bolt (item 3), washer (item 4), self-locking nut (item 7), washer (item 6), and the cotter pin (item 8), as depicted in Figure 3 to paragraph (e) of this AD. If the pilot cyclic stick is not installed as depicted, before further flight, reinstall the pilot cyclic stick.

(4) Inspect the co-pilot cyclic stick installation to determine whether the ring nut (item 1) is loose and the quick-release pin (item 5) is installed as depicted in Figure 4 to paragraph (e) of this AD. If the ring nut is loose or the quick-release pin is not installed as depicted, before further flight, reinstall the co-pilot cyclic stick.

(f) Special Flight Permits

Special flight permits will not be issued.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5328; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Agusta Bollettino Tecnico No. 139-308, dated October 16, 2012, which is not incorporated by reference, contains additional information about the subject of this AD. For a copy of the service information referenced in this AD, contact: AgustaWestland, Customer Support & Services, Via Per Tornavento 15, 21019 Somma Lombardo (VA) Italy, ATTN: Giovanni Cecchelli; telephone 39-0331-711133; fax 39 0331 711180; or at http://www.agustawestland.com/technical-bulletins. You may review a copy of the service information at the FAA, Office of the Regional Counsel, Southwest Region, 2601 Meacham Blvd., Room 663, Fort Worth, Texas 76137.

(2) The subject of this AD is discussed in European Aviation Safety Agency AD No. 2012-0213-E, dated October 16, 2012.

(i) Subject

Joint Aircraft Service Component (JASC) Code: 2700: Flight Controls.

Issued in Fort Worth, Texas, on December 3, 2012.
Kim Smith,
Directorate Manager, Rotorcraft Directorate, Aircraft Certification Service.

[FR Doc. 2012-29716 Filed 12-7-12; 8:45 am]

BILLING CODE 4910-13-C